DEPARTMENT OF ENERGY

Federal Energy Regulatory Commission

[Docket No. EL18-122-000]

Minden, Louisiana v. Southwestern Electric Power Company; Notice of Complaint

Take notice that on February 28, 2018, pursuant to sections 206, 306, and 309 of the Federal Power Act, 16 U.S.C. 824e, 825e, and 825h and Rules 206 and 212 of the Federal Energy Regulatory Commission's (FERC or Commission) Rules of Practice and Procedure, 18 CFR 385.206 and 385.212, the City of Minden, Louisiana (Minden or Complainant) filed a complaint against Southwestern Electric Power Company (SWEPCO or Respondent) alleging that the 11.1 percent return on equity used in calculating rates for requirements service pursuant to the Power Supply Agreement is unjust and unreasonable, all as more fully explained in the complaint.

The Complainant certifies that copies of the complaint were served on Respondent via electronic mail through its counsel.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the “eLibrary” link and is available for electronic review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on March 20, 2018.

Dated: March 1, 2018.
Kimberly D. Bose,
Secretary.

[FR Doc. 2018-04599 Filed 3-6-18; 8:45 am]

BILLING CODE 6717-01-P